DEPARTMENT OF AGRICULTURE

Food Safety and Inspection Service

[Docket No. 04-022N]

Codex Alimentarius Commission: Meeting of the Codex Committee on Nutrition and Foods for Special Dietary Uses

AGENCY: Food Safety and Inspection Service, USDA.

ACTION: Notice of public meeting and request for comments.

SUMMARY: This notice informs the public that the Office of the Under Secretary for Food Safety, U.S. Department of Agriculture (USDA), and the Food and Drug Administration (FDA), U.S. Department of Health and Human Services (HHS), are sponsoring a public meeting on September 9, 2004. The objective of the public meeting is to provide information and receive public comments on agenda items and draft United States' positions that will be discussed at the 26th Session of the Codex Committee on Nutrition and Foods for Special Dietary Uses (CCNFSDU) to be held in Bonn, Germany, November 1-5, 2004. The Under Secretary for Food Safety and FDA recognize the importance of providing interested parties the opportunity to obtain background information on the 26th Session of CCNFSDU and to address items on the agenda.

DATES: The public meeting is scheduled for Thursday, September 9, 2004, from 1 p.m. to 4 p.m.

ADDRESSES: The public meeting will be held in the Auditorium (1A003), Food and Drug Administration, Harvey Wiley Federal Building, 5100 Paint Branch Parkway, College Park, MD. To receive copies of the Codex documents pertaining to the agenda items for the 26th CCNFSDU session, contact the Docket Clerk, U.S. Department of Agriculture, Food Safety and Inspection Service, 300 12th Street, SW., Room 102 Cotton Annex, Washington, DC 20250. The documents will also be accessible via the World Wide Web at the following address: http://www.codexalimentarius.net. FSIS invites interested persons to submit comments on this notice. Comments may be submitted by any of the following methods:

• Mail, including floppy disks or CD-ROM's, and hand- or courier-delivered items: Send to Docket Clerk, U.S. Department of Agriculture, Food Safety and Inspection Service, 300 12th Street, SW., Room 102 Cotton Annex, Washington, DC 20250.

All submissions received must include the Agency name and docket number 04-022N.

• All comments submitted in response to this notice, as well as research and background information used by FSIS in developing this document, will be available for public inspection in the FSIS Docket Room at the address listed above between 8:30 a.m. and 4:30 p.m., Monday through Friday. The comments also will be posted on the Agency's Web site at http://www.fsis.usda.gov/OPPDE/rdad/FRDockets.htm.

The U.S. Delegate to the CCNFSDU, Dr. Barbara Schneeman of the Food and Drug Administration, also invites United States interested parties to submit their comments electronically to the following e-mail address (nancy.crane@cfsan.fda.gov).

Pre-Registration: To gain admittance to this meeting, individuals must present a photo ID for identification and also are required to pre-register. In addition, no cameras or videotaping equipment will be permitted in the meeting room. To pre-register, please send the following information to this e-mail address (nancy.crane@cfsan.fda.gov) by September 1, 2004.

—Your Name;

—Organization;

—Mailing Address;

—Phone number;

—E-mail Address.

FOR FURTHER INFORMATION CONTACT: Ellen Matten, Staff Officer, U.S. Codex Office, FSIS, Room 4861, South Agriculture Building, 1400 Independence Avenue, SW., Washington, DC 20250, telephone number (202) 205-7760; fax (202) 720-3157. Persons requiring a sign language interpreter or other special accommodations should notify Ms. Matten at the above number.

SUPPLEMENTARY INFORMATION:

Background

Codex was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementations by governments, Codex seeks to ensure the world's food supply is sound, wholesome, free from adulteration, and correctly labeled.

The Codex Committee on Nutrition and Foods for Special Dietary Uses was established to study specific nutritional problems assigned to it by the Commission and advise the Commission on general nutritional issues; to draft general provisions as appropriate, concerning the nutritional aspects of all foods; to develop standards, guidelines or related texts for foods for special dietary uses, in cooperation with other committees when necessary; and to consider, amend if necessary, and endorse provisions on nutritional aspects proposed for inclusion in Codex standards, guidelines and related texts. The CCNFSDU is hosted by the Federal Republic of Germany.

Issues To Be Discussed at the Public Meeting

At a minimum, the following items will be on the Agenda for the 26th Session of the Committee:

1. Draft Revised Standard for Gluten-Free Foods (retained at Step 7 until more data on tolerance levels of gluten are available).

2. Guidelines for Use of Nutrition Claims: Draft Table of Conditions for Nutrient Contents (Part B, containing provisions on Dietary Fibre).

3. Draft Guidelines for Vitamin and Mineral Food Supplements.

4. Draft Revised Standard for Processed Cereal-Based Foods for Infants and Young Children.

5. Draft Revised Standard for Infant Formula.

6. Proposed Draft Revision of the Advisory Lists of Nutrient Compounds for the Use in Foods for Special Dietary Uses intended for use by Infants and Young Children.

7. Proposed Draft Recommendations of the Scientific Basis of Health Claims.

8. Guidelines on the Application of Risk Analysis to the Work of CCNFSDU.

9. Discussion Paper on the FAO Technical Workshop on Energy Conversion Factors.

Note: The provisional agenda for the 26th CCNFSDU session will be posted on the World Wide Web in advance of the meeting at the following address: http://www.codexalimentarius.net.

Public Meeting

At the September 9th public meeting, the issues and draft United States positions on the issues will be described, discussed, and attendees will have the opportunity to pose questions and offer comments. Comments may be sent to the FSIS Docket Room (see ADDRESSES). In addition, they may be sent electronically to the U.S. Delegate (see ADDRESSES). Please state that your comments relate to CCNFSDU activities (04-022N) and specify which issues your comments address.

Additional Public Notification

Public awareness of all segments of rulemaking and policy development is important. Consequently, in an effort to ensure that the public and in particular minorities, women, and persons with disabilities, are aware of this notice, FSIS will announce it on-line through the FSIS Web page located at http://www.fsis.usda.gov. The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

Done in Washington, DC on August 9, 2004.
F. Edward Scarbrough,
U.S. Manager for Codex Alimentarius.

[FR Doc. 04-18499 Filed 8-12-04; 8:45 am]

BILLING CODE 3410-DM-P